ENVIRONMENTAL PROTECTION AGENCY

[FRL-7832-1]

Proposed Agreement Pursuant to Section 122(h)(1) of the Comprehensive Environmental Response, Compensation, and Liability Act (CERCLA) for the South Central Terminal Site Near Pana, IL

AGENCY: Environmental Protection Agency (EPA).

ACTION: Notice and request for public comment on proposed CERCLA section 122(h)(1) agreement with three prior owner/operators regarding partial recovery of costs incurred by EPA in implementing a removal action to address soil contamination, hazardous liquids and sludges, and deteriorated above-ground storage tanks, piping and asbestos insulation at an abandoned oil refinery near Pana, Illinois.

SUMMARY: In accordance with section 122(i)(1) of CERCLA, notification is hereby given of a proposed administrative settlement agreement regarding partial recovery of costs incurred by EPA in implementing a removal action at the site of the former South Central Terminal oil refinery and bulk storage facility near downstate Pana, Illinois. EPA proposes to enter into this agreement under the authority of sections 122(h) and 107 of CERCLA. The proposed agreement has been executed by three historical owner/operators of the facility, Growmark, Inc., Rosewood Refining, L.L.C., and Bi-Petro, Inc. (the “Settling Parties”). Under the proposed agreement, the Settling Parties will pay a total of $625,000 to reimburse the Superfund for part of the $3.16 million incurred by EPA in implementing the removal action at the facility. For thirty days following the date of publication of this notice, EPA will receive written comments relating to the proposed agreement. EPA will consider all comments received and may decide not to enter into the proposed agreement if comments disclose facts or considerations which indicate that the agreement is inappropriate, improper or inadequate.

DATES: Comments on the proposed agreement must be received by EPA on or before November 29, 2004.

ADDRESSES: Comments should be addressed to the Docket Clerk, U.S. Environmental Protection Agency, Region 5, 77 West Jackson Boulevard, Chicago, Illinois 60604-3590, and should refer to: In the Matter of South Central Terminal, EPA Docket No. V-W-'04-C-799.

FOR FURTHER INFORMATION CONTACT: Reginald A. Pallesen, Associate Regional Counsel, by mail at: U.S. Environmental Protection Agency, Office of Regional Counsel (C-14J), 77 West Jackson Boulevard, Chicago, Illinois 60604-3590, or by phone at: (312) 886-0555. A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Richard C. Karl,
Director, Superfund Division, Region 5.

[FR Doc. 04-24246 Filed 10-28-04; 8:45 am]

BILLING CODE 6560-50-P